DEPARTMENT OF HOMELAND SECURITY

Coast Guard

33 CFR Part 100

[Docket No. USCG-2010-0279]

RIN 1625-AA08

Special Local Regulation; Harrison Township Grand Prix, Lake St. Clair, Harrison Township, MI

AGENCY: Coast Guard, DHS.

ACTION: Temporary final rule.

SUMMARY: The Coast Guard is establishing a temporary special local regulation in the Captain of the Port Detroit Zone on Lake St. Clair, Harrison Township, Michigan. This special local regulation is intended to restrict vessels from portions of Lake St. Clair during the Harrison Township Grand Prix. This special local regulation is necessary to protect spectators and vessels from the hazards associated with powerboat races.

DATES: This rule is effective on July 17, 2010 through July 18, 2010.

ADDRESSES: Comments and material received from the public, as well as documents mentioned in this preamble as being available in the docket, are part of docket USCG-2010-0279 and are available online by going to http://www.regulations.gov, inserting USCG-2010-0279 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail CDR Joseph Snowden, Prevention Department, Sector Detroit, Coast Guard; telephone (313) 568-9508, e-mail Joseph.H.Snowden@uscg.mil. If you have questions on viewing the docket, call Renee V. Wright, Program Manager, Docket Operations, telephone 202-366-9826.

SUPPLEMENTARY INFORMATION:

Regulatory Information

On April 23, 2010, we published a notice of proposed rulemaking (NPRM) titled Special Local Regulation; Harrison Township Grand Prix, Lake St. Clair, Harrison Township, MI in the Federal Register (75 FR 21194). We received zero comments on the proposed rule. No public meeting was requested, and none was held. This rule is effective upon publication in the Federal Register, as the event is taking place within thirty days of publication. Delaying the effective date would negate the purpose of the rule.

Background and Purpose

This temporary special local regulation is necessary to ensure the safety of vessels and spectators from hazards associated with a powerboat race. The Captain of the Port Detroit has determined powerboat races in close proximity to watercraft and infrastructure pose significant risk to public safety and property. The likely combination of large numbers of recreation vessels, powerboats traveling at high speeds, and large numbers of spectators in close proximity to the water could easily result in serious injuries or fatalities. Establishing a special local regulation around the location of the race course will help ensure the safety of persons and property at these events and help minimize the associated risks.

Discussion of Comments and Changes

We received no comments with regard to this rule and no changes have been made to this rule as proposed in the NPRM.

Discussion of the Rule

This rule will be enforced between 10 a.m. and 4 p.m. each day of its effective period. In the event that this temporary special local regulation affects shipping, commercial vessels may request permission from the Captain of the Port Detroit to transit through the safety regulated area. The Coast Guard will give notice to the public via a Broadcast Notice to Mariners that the regulation is in effect. Additionally, the Captain of the Port will suspend enforcement of the regulated navigation area if the event for which the area is established ends earlier than the expected time.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This determination is based on the minimal time that vessels will be restricted from the area of the special local regulation, which is located in a portion of Lake St. Clair where the Coast Guard expects insignificant adverse impact to mariners from the special local regulation's enforcement.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: The owners or operators of vessels intending to transit or anchor in the portion of Lake St. Clair near Harrison Township, MI between 10 a.m. and 4 p.m. on July 17, 2010 through July 18, 2010.

This special local regulation will not have a significant economic impact on a substantial number of small entities, because of the minimal amount of time in which the special local regulation will be enforced. This special local regulation will be enforced for approximately six (6) hours each day for two days, twelve (12) hours total. In the event that this special local regulation affects shipping, commercial vessels may request permission from the Captain of the Port Detroit to transit through the regulated navigation area. The Coast Guard will give notice to the public via a Broadcast Notice to Mariners that the regulation is in effect. Additionally, the COTP will suspend enforcement of the regulated navigation area if the event for which the regulated navigation area is established ends earlier than the expected time.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520). We received no comments with regard to this rule and no changes have been made to this rule as proposed in the NPRM.

Federalism

A rule has implications for federalism under Executive Order 13132, Federalism, if it has a substantial direct effect on State or local governments and would either preempt State law or impose a substantial direct cost of compliance on them. We have analyzed this rule under that Order and have determined that it does not have implications for federalism. We received no comments with regard to this rule and no changes have been made to this rule as proposed in the NPRM.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble. We received no comments with regard to this rule and no changes have been made to this rule as proposed in the NPRM.

Taking of Private Property

This rule will not cause a taking of private property or otherwise have taking implications under Executive Order 12630, Governmental Actions and Interference with Constitutionally Protected Property Rights. We received no comments with regard to this rule and no changes have been made to this rule as proposed in the NPRM.

Civil Justice Reform

This rule meets applicable standards in sections 3(a) and 3(b)(2) of Executive Order 12988, Civil Justice Reform, to minimize litigation, eliminate ambiguity, and reduce burden. We received no comments with regard to this rule and no changes have been made to this rule as proposed in the NPRM.

Protection of Children

We have analyzed this rule under Executive Order 13045, Protection of Children from Environmental Health Risks and Safety Risks. This rule is not an economically significant rule and does not create an environmental risk to health or risk to safety that may disproportionately affect children. We received no comments with regard to this rule and no changes have been made to this rule as proposed in the NPRM.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes. We received no comments with regard to this rule and no changes have been made to this rule as proposed in the NPRM.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211. We received no comments with regard to this rule and no changes have been made to this rule as proposed in the NPRM.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards. We received no comments with regard to this rule and no changes have been made to this rule as proposed in the NPRM.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(h), of the Instruction. This rule involves the establishment of a special local regulation issued in conjunction with a permitted powerboat race event. The environmental analysis conducted for the powerboat race event permit included an analysis of the impact of the special local regulation. Based on our preliminary determination, there are no factors in this case that would limit the use of a categorical exclusion under section 2.B.2 of the Instruction. Therefore, we believe that this rule should be categorically excluded, under figure 2-1, paragraph (34)(h), of the Instruction, from further environmental documentation. Under figure 2-1, paragraph (34)(h), of the Instruction, an environmental checklist and categorical exclusion determination is not required for this rule.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233.

2. Add a new temporary § 100.T09-0279 as follows:

§ 100.T09-0279 Special Local Regulation; Harrison Township Grand Prix; Lake St. Clair; Harrison Township, MI.

(a) Location. The following is a temporary special local regulation area: All waters of Lake St. Clair, near Harrison Township, MI, bound by a line extending from a starting point in Lake St. Clair located at position 32′44″ N;, 082° 50′42″ W, 42° traveling southeast to position 42° 32′10″ N; 082° 47′50″ W, northeast to position 34′07″ N; 082° 47′30″ W, 42°, west to position 42° 34′05″ N; 082° 49′35″ W, and southwest to the point of origin at position 42° 32′44″ N; 082° 50′42″ W. This regulated navigation area encompasses the entire race course located in Lake St. Clair near Metro Beach, Harrison Township. (DATUM: NAD 83).

(b) Effective Period. This regulation is effective from 10 a.m. on July 17, 2010, to 4 p.m. on July 18, 2010. This regulation will be enforced daily from 10 a.m. until 4 p.m. on July 17, 2010 through July 18, 2010.

(c) Regulations.

(1) In accordance with the general regulations in Section 100.35 of this part, entry into, and transiting or anchoring within this special local regulation area is prohibited unless authorized by the Captain of the Port Detroit, or his on-scene representative.

(2) This special local regulation area is closed to all vessel traffic, except as may be permitted by the Captain of the Port Detroit or his on-scene representative.

(3) The “on-scene representative” of the Captain of the Port is any Coast Guard commissioned, warrant, or petty officer who has been designated by the Captain of the Port to act on his behalf. The on-scene representative of the Captain of the Port will be aboard either a Coast Guard or Coast Guard Auxiliary vessel.

(4) Vessel operators desiring to enter or operate within the special local regulation area shall contact the Captain of the Port Detroit or his on-scene representative to obtain permission to do so. The Captain of the Port or his designated on scene representative may be contacted via VHF Channel 16. Vessel operators given permission to enter or operate in the special local regulation area must comply with all directions given to them by the Captain of the Port or his on-scene representative.

Dated: June 14, 2010.
J.E. Ogden,
Captain, U.S. Coast Guard, Captain of the Port Detroit.

[FR Doc. 2010-16717 Filed 7-8-10; 8:45 am]

BILLING CODE 9110-04-P